NATIONAL SCIENCE FOUNDATION

Sunshine Act, Meetings

Agency Holding Meeting: National Science Foundation. National Science Board. Committee on Education and Human Resources.

Date and Time: July 10, 2003 11 a.m.-12 p.m.

Place: The National Science Foundation, Stafford One Building, 4201 Wilson Boulevard, Room 130, Arlington, VA 2230.

Status: This meeting will be open to the public.

Matters to be Considered:

Thursday, July 10, 2003

Open Session (11 a.m. to 12 p.m.)

Consideration of public comments on the Education and Human Resources Task Force on National Workforce Policies for Science and Engineering draft report (NSB 03-69).

For information contact: Gerard Glaser, Executive Officer, NSB, (703) 292-7000, http//www.nsf.gov/nsb.

Gerald Glaser,
Executive Officer.

[FR Doc. 03-17221 Filed 7-02-03; 2:08 pm]

BILLING CODE 7555-01-M